DEPARTMENT OF TRANSPORTATION

Federal Aviation Administration

First Meeting: RTCA Special Committee 230, Airborne Weather Detection Systems Committee

AGENCY: Federal Aviation Administration (FAA), U.S. Department of Transportation (DOT).

ACTION: First Meeting Airborne Weather Detection Systems Committee.

SUMMARY: The FAA is issuing this notice to advise the public of the first meeting of the Airborne Weather Detection Systems Committee.

DATES: The meeting will be held March 19 and 20, 2014 from 9:00 a.m.-5:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. No. 92-463, 5 U.S.C., App.), notice is hereby given for a meeting of Special Committee 224. The agenda will include the following:

March 19

• Welcome/Introductions/Administrative Remarks

• Agenda Overview

• RTCA Overview

• Background on RTCA and Process

• Presentations reviewing current airborne radar technology and certification approaches

• SC-230 Scope and Terms of Reference

• SC-230 Structure and Organization of Work.

• Detailed Schedule

• SC Structure—Sub-Groups

• Workspace presentation

• Other Business

• Date and Place of Next Meetings

• Adjourn

March 20

• Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 5, 2014.
Paige Williams,
Management Analyst, NextGen, Business Operations Group, Federal Aviation Administration.

[FR Doc. 2014-02950 Filed 2-10-14; 8:45 am]

BILLING CODE 4910-13-P